DEPARTMENT OF COMMERCE

National Institute of Standards and Technology

Manufacturing Extension Partnership Advisory Board

AGENCY: National Institute of Standards and Technology, Department of Commerce.

ACTION: Notice of public meeting.

SUMMARY: Pursuant to the Federal Advisory Committee Act, 5 U.S.C. app. 2, notice is hereby given that the Manufacturing Extension Partnership (MEP) Advisory Board, National Institute of Standards and Technology (NIST) will meet Thursday, September 24, 2009, from 8:30 a.m. to 3:30 p.m. This meeting is being held in conjunction with MEP's Quarterly Update meeting in Dallas, TX. The MEP Advisory Board is composed of 10 members appointed by the Director of NIST who were selected for their expertise in the area of industrial extension and their work on behalf of smaller manufacturers. The Board was established to fill a need for external input on MEP. MEP is a unique program consisting of centers across the United States and Puerto Rico, with partnerships at the state, federal, and local levels. The Board works closely with MEP to provide input and advice on MEP's programs, plans, and policies. For this meeting, discussions will focus on a review of key findings and policy implications from the MEP Advisory Board's Future of Manufacturing paper. In addition, MEP will provide an overview of its strategy for technology acceleration and gather Board input and advice on open source innovation, including methods and tools for fostering technology adoption by smaller manufacturers. The agenda may change to accommodate Board business.

DATES: The meeting will convene September 24, 2009 at 8:30 a.m. and will adjourn at 3:30 p.m. on September 24, 2009.

ADDRESSES: The meeting will be held at the Embassy Suites Dallas—DFW Airport North Outdoor World, 2401 Bass Pro Drive, Grapevine, TX 76051. Anyone wishing to attend this meeting should submit name, e-mail address and phone number to Susan Hayduk (susan.hayduk@nist.gov or 301-975-5614) no later than September 10, 2009.

FOR FURTHER INFORMATION CONTACT: Karen Lellock, Manufacturing Extension Partnership, National Institute of Standards and Technology, Gaithersburg, Maryland 20899-4800, telephone number (301) 975-4269.

Dated: August 19, 2009.
Katharine Gebbie,
Director, Physics Laboratory.

[FR Doc. E9-20524 Filed 8-25-09; 8:45 am]

BILLING CODE 3510-13-P